ENVIRONMENTAL PROTECTION AGENCY

[FRL-7014-7]

Agency Information Collection Activities: Submission for OMB Review; Comment Request; Compliance Assistance Surveys for the Marina, Metal Finishing, Construction Site, and Auto Salvage Yard Sectors

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Compliance Assistance Surveys for the Marina, Metal Finishing, Construction Site, and Auto Salvage Yard Sectors (EPA ICR Number 2021.01). The ICR describes the nature of the information collection and its expected burden and cost; where appropriate, it includes the actual data collection instrument.

DATES: Comments must be submitted on or before August 20, 2001.

ADDRESSES: Send comments, referencing EPA ICR No. 2021.01 to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.Sandy@epamail.epa.gov, or download off the Internet at http://www.epa.gov/icr and refer to EPA ICR No. 2021.01. For technical questions about the ICR contact Lynn Vendinello on (202) 564-7066.

SUPPLEMENTARY INFORMATION:

Title: Compliance Assistance Surveys for the Marina, Metal Finishing, Construction Site, and Auto Salvage Yard Sectors (EPA ICR Number 2021.01). This is a new collection.

Abstract: EPA's Office of Compliance (OC) is interested in testing methods for collecting outcome data from their compliance assistance efforts. OC is planning to conduct surveys to three sectors to compare two survey methodologies: mailed surveys using the “total design method” and surveys conducted as on-site visits. EPA will also use the survey results to evaluate the impact of compliance assistance activities on facilities in these sectors. These surveys will support OC in collecting statistically valid compliance assistance outcome data needed to present the impacts of compliance assistance for Government Performance and Results Act (GPRA) reporting purposes. OC is interested in conducting the surveys for sectors in three stages of analysis/activity: (1) A sector for which OC is beginning a compliance assistance effort (marinas); (2) a sector for which OC/EPA have conducted several compliance assistance activities (metal finishing); and (3) a sector for which OC doesn't have sufficient information to determine compliance assistance needs (either construction sites or auto salvage yards).

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 23, 2001 (66 FR 16223). EPA received two written comments; one from the Automotive Recyclers Association and the other from the Institute of Scrap Recycling Industries. EPA also met with and received comment from Christian Richter of The Policy Group which represents the Association of Electroplaters and Surface Finishers, National Association of Metal Finishers, and Metal Finishers Suppliers Association.

Burden Statement: The annual public reporting and record keeping burden for this collection of information is estimated to average 1 hour per response for the mailed surveys in each sector and 4 hours per response for the site visit surveys in each sector. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Marina, Metal Finishing, Construction Site, and Auto Salvage Yard Sectors.

Estimated Number of Respondents: 700.

Frequency of Response: Once.

Estimated Total Annual Hour Burden: 1,900 hours.

Estimated Total Annualized Capital, Operating/Maintenance Cost Burden: 0.

Send comments on the Agency's need for this information, the accuracy of the provided burden estimates, and any suggested methods for minimizing respondent burden, including through the use of automated collection techniques to the addresses listed above. Please refer to EPA ICR No. 2021.01 in any correspondence.

Dated: July 10, 2001.
Oscar Morales,
Director, Collection Strategies Division.

[FR Doc. 01-18096 Filed 7-18-01; 8:45 am]

BILLING CODE 6560-50-U